DEPARTMENT OF ENERGY

Federal Energy Regulatory Commission

Combined Notice of Filings #2

Take notice that the Commission received the following electric corporate filings:

Docket Numbers: EC13-102-000.

Applicants: Covanta Energy Corporation, Camden County Energy Recovery Associates.

Description: Joint Application of Covanta Energy Corporation and Camden County Energy Recovery Associates, L.P. for Authorization Under Section 203 of the Federal Power Act and Request for Waivers of Certain Commission Requirements.

Filed Date: 5/2/13.

Accession Number: 20130502-5112.

Comments Due: 5 p.m. ET 5/23/13.

Take notice that the Commission received the following exempt wholesale generator filings:

Docket Numbers: EG13-31-000.

Applicants: Dominion Bridgeport Fuel Cell, LLC.

Description: Notice of Self-Certification of Exempt Wholesale Generator Status of Dominion Bridgeport Fuel Cell, LLC.

Filed Date: 5/1/13.

Accession Number: 20130501-5377.

Comments Due: 5 p.m. ET 5/22/13.

Take notice that the Commission received the following electric rate filings:

Docket Numbers: ER13-1298-001.

Applicants: Mega Energy Holdings LLC.

Description: Mega Energy Holdings LLC submits Amended New to be effective 5/1/2013.

Filed Date: 5/2/13.

Accession Number: 20130502-5035.

Comments Due: 5 p.m. ET 5/23/13.

Docket Numbers: ER13-1413-000.

Applicants: Northern Indiana Public Service Company.

Description: Northern Indiana Public Service Company submits Filing of a CIAC Agreement to be effective 5/3/2013.

Filed Date: 5/2/13.

Accession Number: 20130502-5080.

Comments Due: 5 p.m. ET 5/23/13.

Take notice that the Commission received the following qualifying facility filings:

Docket Numbers: QF13-389-000.

Applicants: Adkins Energy LLC.

Description: Form 556—Notice of self-certification of qualifying cogeneration facility status of Adkins Energy LLC.

Filed Date: 4/15/13.

Accession Number: 20130415-5082.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2013.
Nathaniel J. Davis, Sr.,
Deputy Secretary.

[FR Doc. 2013-11417 Filed 5-13-13; 8:45 am]

BILLING CODE 6717-01-P